DEPARTMENT OF ENERGY

Federal Energy Regulatory Commission

[Docket No. RP03-260-000]

Central New York Oil And Gas Company, LLC; Notice of Tariff Filing

February 25, 2003.

Take notice that on February 20, 2003, Central New York Oil and Gas Company, LLC (CNYOG) tendered for filing as part of its FERC Gas Tariff, Original Volume No. 1, the following revised tariff sheets to be effective March 22, 2003:

First Revised Sheet No. 1

Original Sheet No. 4A

Second Revised Sheet No. 31

Original Sheet Nos. 34-49

Original Sheet No. 51

Original Sheet No. 53 Original Sheet No. 54

Original Sheet Nos. 55-69

First Revised Sheet No. 85

First Revised Sheet No. 99

First Revised Sheet No. 101

First Revised Sheet No. 121

Second Revised Sheet No. 122

First Revised Sheet No. 137

First Revised Sheet No. 140

Original Sheet No. 142

Original Sheet No. 144

Original Sheet No. 146

First Revised Sheet No. 2

Second Revised Sheet No. 5

Second Revised Sheet No. 32

Original Sheet No. 50

Original Sheet No. 52

First Revised Sheet No. 75

Second Revised Sheet No. 98

First Revised Sheet No. 100

First Revised Sheet No. 108

Original Sheet No. 121A

Second Revised Sheet No. 132

Second Revised Sheet No. 138

Original Sheet No. 141

Original Sheet No. 143

Original Sheet No. 145

Original Sheet No. 147

CNYOG states that the purpose of its filing is to add Rate Schedule PAL to its tariff, so that CNYOG may provide park and loan services to its customers, and to make certain enhancements to the interruptible storage service CNYOG offers under its Rate Schedule ISS.

CNYOG further states that it has served copies of this filing upon the company's jurisdictional customers and interested state commissions.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 4, 2003.

Magalie R. Salas,
Secretary.

[FR Doc. 03-4967 Filed 3-3-03; 8:45 am]

BILLING CODE 6717-01-P